EXPORT-IMPORT BANK

[Document Number: 2019-6018]

Review of Economic Impact Procedures and Methodology.

The Export-Import Bank of the United States (EXIM) is in the process of reviewing its economic impact procedures and methodology and invites public comment. EXIM's current Economic Impact procedures can be accessed at: https://www.exim.gov/sites/default/files//newsreleases/Final-April-2013-Procedures.pdf.

Interested parties may submit comments to economic.impact@exim.gov or by mail to 811 Vermont Avenue NW, Room 1257, within 30 days of the date this notice appears in the Federal Register.

James C. Cruse,
Senior Vice President, Office of Policy and International Relations.

[FR Doc. 2019-19344 Filed 9-6-19; 8:45 am]

BILLING CODE 6690-01-P